DEPARTMENT OF THE TREASURY

United States Mint

Prominent American Women Honored on the Reverse of Quarter-Dollar Coins—Request for Recommendations

AGENCY: United States Mint, Department of the Treasury.

ACTION: Request.

SUMMARY: The Circulating Collectible Coin Redesign Act of 2020 directs the Secretary of the Treasury (Secretary) to redesign and issue quarter-dollar coins that feature designs on the reverse emblematic of the accomplishments of a prominent American woman (Program). As part of the Program, each year, over a four-year period (2022-2025), the United States Mint (Mint) will issue quarter-dollar coins bearing up to five different reverse designs, each emblematic of the accomplishments and contributions of one prominent woman of the United States. The contributions may come from a wide spectrum of accomplishments and fields, including but not limited to suffrage, civil rights, abolition, government, humanities, science, space, and arts.

SUPPLEMENTARY INFORMATION: The Secretary will select the women to be honored after soliciting recommendations from the general public, and in consultation with the Smithsonian Institution's American Women's History Initiative, the National Women's History Museum, and the Bipartisan Women's Caucus (Consultants). As the Act requires that the designs may not feature any living person, all of the women honored must be deceased.

In accordance with the selection process developed by the Secretary, the public is now invited to submit recommended candidate honorees via the following web portal established by the National Women's History Museum: https://forms.gle/3BgR3BLbFfJ69XdYA.

FOR FURTHER INFORMATION CONTACT: The United States Mint; 801 9th Street NW, Washington, DC 20220; or email womenonquarters@usmint.treas.gov.

Authority: Public Law 116-330.

Eric Anderson,
Executive Secretary, United States Mint.

[FR Doc. 2021-06164 Filed 3-24-21; 8:45 am]

BILLING CODE P